Title 3—

The President

Proclamation 8796 of April 3, 2012

Education and Sharing Day, U.S.A., 2012

By the President of the United States of America

A Proclamation

For centuries, the pursuit of knowledge and the cultivation of character have driven American progress and enriched our national life. On Education and Sharing Day, U.S.A., we renew our commitment to these timeless aspirations, and we rededicate ourselves to fostering in our sons and daughters inquiring minds and compassionate hearts.

In a global economy where more than half of new jobs will demand higher education or advanced training, we must do everything we can to equip our children with the tools for success. Their journey begins early, and it demands stewardship from throughout the community—from parents and caregivers who inspire a love of learning to teachers and mentors who guide our children along the path to achievement. Our Nation’s prosperity grows with theirs, and by ensuring every child has access to a world class education, we reach for a brighter future for all Americans.

Yet, we also move forward knowing we cannot secure the promise of tomorrow through formal education alone. With each generation, our Nation has confronted questions that tested the quality and character of our people. We have borne witness to seemingly insurmountable problems of inequality, oppression, or dire circumstance at home and abroad, and where we have recognized injustice, the way forward has not always been clear. Time and again, during moments of trial, Americans have demonstrated a fundamental commitment to compassion, cooperation, and goodwill toward others—doing not what is easy, but what is right. These qualities have come to define us, and as we prepare today’s students to become tomorrow’s leaders, let us nourish in them the virtues that have sustained our country for generations.

On Education and Sharing Day, U.S.A., we reflect on the teachings of Rabbi Menachem Mendel Schneerson, the Lubavitcher Rebbe, who embodied that humanitarian spirit. As a tireless advocate for youth around the world, he inspired millions to lift the cause of education, to practice kindness and generosity, and to aspire toward their highest ideals. His enduring legacy lives on in those he touched, and today, we resolve to carry forward his dedication to service and scholarship.

NOW, THEREFORE, I, BARACK OBAMA, President of the United States of America, by virtue of the authority vested in me by the Constitution and the laws of the United States, do hereby proclaim April 3, 2012, as Education and Sharing Day, U.S.A. I call upon all Americans to observe this day with appropriate ceremonies and activities.

IN WITNESS WHEREOF, I have hereunto set my hand this third day of April, in the year of our Lord two thousand twelve, and of the Independence of the United States of America the two hundred and thirty-sixth.

[FR Doc. 2012-8651

Filed 4-6-12; 11:15 am]

Billing code 3295-F2-P